GENERAL SERVICES ADMINISTRATION

Privacy Act of 1974; Proposed Revisions to a System of Records

AGENCY: General Services Administration.

ACTION: Notice of proposed revision to an existing Privacy Act system of records.

SUMMARY: The General Services Administration (GSA) proposes to upgrade the government-wide system of records, Contracted Travel Services Program (GSA/GOVT-4), as part of GSA's responsibility to enhance the Federal government's electronic capability. The revised system will include electronic capabilities under a proposed new contract for a government-wide electronic travel service (eTS). The procurement is expected to be completed and a contract awarded before the end of the year. With the award of the contract, a new category of travel service provider will be maintaining information in a comprehensive travel services system for travelers on official Federal business, from initial travel authorization to the final accounting. Changes to the system Privacy Act notice include: Addition of the eTS contractor(s) as a system location; new categories of records needed to accommodate the electronic processes; and inclusion of administrative requirements in the routine uses.

DATES: Any interested persons may submit written comments on this proposal. It will become effective without further notice on June 2, 2003, unless comments received on or before that date result in a contrary determination.

ADDRESSES: Comments should be submitted to the Assistant Commissioner, Office of Transportation and Property Management (FB), Federal Supply Service, General Services Administration, Crystal Mall Building 4, 1941 Jefferson Davis Highway, Arlington, VA 22202.

FOR FURTHER INFORMATION CONTACT: GSA Privacy Act Officer, General Services Administration, Office of the Chief People Officer, 1800 F Street NW., Washington, DC 20405; telephone (202) 501-1452.

Dated: April 28, 2003.
Daniel K. Cooper,
Director, Information Management Division.

GSA/GOVT-4

System name:

Contracted Travel Services Program.

System location:

System records are located at the service providers under contract with a Federal agency and at the Federal agencies using the contracts.

Categories of individuals covered by the system:

Individuals covered by the system are Federal employees authorized to perform, approve, arrange or reimburse official travel, and individuals being provided travel by the Federal government.

Categories of records in the system:

System records include a traveler's profile containing: Name of individual; Social Security Number; employee identification number; home and office telephones; home address; home and office e-mail addresses; emergency contact name and telephone number; agency name, address, and telephone number; air travel preference; rental car identification number and car preference; hotel preference; current passport and/or visa number(s); credit card numbers and related information; bank account information needed for electronic funds transfer; frequent traveler account information (e.g., frequent flyer account numbers); trip information (e.g., destinations, reservation information); travel authorization information; travel claim information; monthly reports from travel agent(s) showing charges to individuals, balances, and other types of account analyses; and other official travel related information.

Authority for maintenance of the system:

31 U.S.C. 3511, 3512, and 3523; 5 U.S.C. chapter 57; and implementing Federal Travel Regulations (41 CFR parts 301-304).

Purpose(s):

To establish a comprehensive beginning-to-end travel services system containing information to enable travel service providers under contract to the Federal government to authorize, issue, and account for travel and travel reimbursements provided to individuals on official Federal government business.

Routine uses of records maintained in the system, including categories of users and the purposes of such uses:

Information in the system may be disclosed as a routine use as follows:

a. To a Federal, State, local, or foreign agency responsible for investigating, prosecuting, enforcing, or carrying out a statute, rule, regulation, or order, where agencies become aware of a violation or potential violation of civil or criminal law or regulation.

b. To another Federal agency or a court when the Federal government is party to a judicial proceeding.

c. To a Member of Congress or a congressional staff member in response to an inquiry from that congressional office made at the request of the individual who is the subject of the record.

d. To a Federal agency employee, expert, consultant, or contractor in performing a Federal duty for purposes of authorizing, arranging, and/or claiming reimbursement for official travel, including, but not limited to, traveler profile information.

e. To a credit card company for billing purposes, including collection of past due amounts.

f. To a Federal agency for accumulating reporting data and monitoring the system.

g. To a Federal agency by the contractor in the form of itemized statements or invoices, and reports of all transactions, including refunds and adjustments to enable audits of charges to the Federal government.

h. To a Federal agency, in response to its request, in connection with the hiring or retention of any employee to the extent that the information is relevant and necessary to the requesting agency's decision on the matter.

i. To an authorized appeal or grievance examiner, formal complaints examiner, equal employment opportunity investigator, arbitrator, or other duly authorized official engaged in investigation or settlement of a grievance, complaint, or appeal filed by an employee to whom the information pertains.

j. To the Office of Personnel Management (OPM) in accordance with the agency's responsibility for evaluation of Federal personnel management.

k. To officials of labor organizations recognized under 5 U.S.C. chapter 71 when relevant and necessary to their duties of exclusive representation concerning personnel policies, practices, and matters affecting working conditions.

l. To a travel services provider for billing and refund purposes.

m. To a carrier or an insurer for settlement of an employee claim for loss of or damage to personal property incident to service under 31 U.S.C. 3721, or to a party involved in a tort claim against the Federal government resulting from an accident involving a traveler.

n. To a credit reporting agency or credit bureau, as allowed and authorized by law, for the purpose of adding to a credit history file when it has been determined that an individual's account with a creditor with input to the system is delinquent.

Policies and practices for storing, retrieving, reviewing, retaining, and disposing of records in the system:

Storage:

Paper records are stored in file cabinets. Electronic records are maintained within a computer (e.g., PC, server, etc.) and attached equipment.

Retrievability:

Paper records are filed by name and/or Social Security Number/employee identification number at each location. Electronic records are retrievable by any attribute of the system, including but not limited to the traveler profile, passenger name reference, etc.

Safeguards:

Paper records are stored in lockable file cabinets or secured rooms. Electronic records are protected by a password system and a secure socket layer encrypted Internet connection. Information is released only to authorized users and officials on a need-to-know basis.

Retention and disposal:

Records kept by a Federal agency are maintained in accordance with the General Records Retention Schedules issued by the National Archives and Records Administration (NARA).

System manager(s) and address:

Assistant Commissioner, Office of Transportation and Property Management (FB), Federal Supply Service, General Services Administration, Crystal Mall Building 4, 1941 Jefferson Davis Highway, Arlington VA 22202.

Notification procedure:

Inquiries from individuals should be addressed to the appropriate administrative office for the agency that is authorizing and/or reimbursing their travel.

Records access procedures:

Requests from individuals should be addressed to the appropriate administrative office for the agency that is authorizing and/or reimbursing their travel. Individuals must furnish their full name and/or Social Security Number to the authorizing agency for their records to be located and identified.

Contesting record procedures:

Individuals wishing to request amendment of their records should contact the appropriate administrative office for the agency that authorized and/or reimbursed their travel. Individuals must furnish their full name and/or Social Security Number along with the name of the authorizing agency, including duty station where they were employed at the time travel was performed.

Record source categories:

The sources are the individuals themselves, employees, travel authorizations, credit card companies, and travel service providers.

[FR Doc. 03-10804 Filed 5-1-03; 8:45 am]

BILLING CODE 6820-34-P